DEPARTMENT OF ENERGY

Federal Energy Regulatory Commission

[Docket No. PF13-4-000]

Gulf LNG Liquefaction Company, LLC, Gulf LNG Energy, LLC, Gulf LNG Pipeline, LLC; Notice of Intent To Prepare an Environmental Impact Statement for the Planned Gulf LNG Liquefaction Project, Request for Comments on Environmental Issues, and Notice of Public Scoping Meeting

The staff of the Federal Energy Regulatory Commission (FERC or Commission) will prepare an environmental impact statement (EIS) that will identify and address the environmental impacts that could result from the construction and operation of the Gulf LNG Liquefaction Project (Project) planned by Gulf LNG Liquefaction Company, LLC, Gulf LNG Energy, LLC, and Gulf LNG Pipeline, LLC (collectively GLLC). The Commission will use this EIS in its decision-making process to determine whether the Project is in the public interest.

This notice announces the opening of the scoping process the Commission will use to gather input from the public and interested agencies on the Project. Your input will help the Commission staff determine what issues they need to evaluate in the EIS. Please note that the scoping period will close on September 1, 2014.

You may submit comments in written form or verbally. Further details on how to submit written comments are in the Public Participation section of this notice. In lieu of or in addition to sending written comments, the Commission invites you to attend the public scoping meeting scheduled as follows: FERC Public Scoping Meeting, Gulf LNG Liquefaction Project, August 18, 2014, 6:00-8:00 p.m., Pelican Landing Convention Center, 6217 Mississippi Highway 613, Moss Point, MS 39563, 228-474-1406.

This public meeting is designed to provide you with more detailed information and another opportunity to offer your comments on the Project. GLLC representatives will be present one hour before the meeting (starting at 5:00 p.m.) to describe the Project, present maps, and answer questions. Interested groups and individuals are encouraged to attend the meeting and present comments on the issues they believe should be addressed in the EIS. A transcript of the meeting will be made so that your comments will be accurately recorded.

This notice is being sent to the Commission's current environmental mailing list for this Project. State and local government representatives should notify their constituents of this planned Project and encourage them to comment on their areas of concern.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Summary of the Planned Project

GLLC plans to expand the existing LNG import terminal in Jackson County, Mississippi to enable the terminal to liquefy natural gas (LNG) for export. The planned facility would have an export capacity of approximately 10 million metric tons per year (MTPY). The Project would use both the planned and existing facilities to liquefy domestic natural gas delivered by an existing interstate natural gas pipeline. The LNG would be stored in the existing import facility LNG storage tanks, and loaded and stored on LNG carriers at the existing marine berthing and LNG transfer facility. The terminal would retain its capability to import, store, regasify, and deliver natural gas into the existing interstate natural gas pipeline system. GLLC is not planning to increase the size or frequency of LNG carriers currently authorized to call on the existing terminal. The Project would require minor modifications to three existing Gulf LNG Interstate Pipeline interconnections and metering stations. The general locations of Project facilities are depicted in the figures included as Appendix 1 to this notice.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

The Gulf LNG Liquefaction Project would include construction and operation of the following key facilities:

• Two liquefaction trains, with each train including a feed gas treatment unit, a heavy hydrocarbon removal unit, and a liquefaction unit (with a maximum LNG production capacity of approximately 5 million MTPY each);

• a new natural gas liquids (NGL) and refrigerant storage area;

• a new truck loading/unloading facility to unload refrigerants for transport to the storage area and to load NGLs produced during the gas liquefaction process;

• new in-tank LNG loading pumps in the existing LNG storage tanks to transfer LNG through the existing transfer lines to LNG carriers;

• minor changes to the piping of the marine loading arms to permit bi-directional flow;

• modifications to the existing metering stations at the existing Gulfstream Pipeline Company and Destin Pipeline Company interconnection facilities;

• modifications to the existing interconnection with the pipeline owned by the Transcontinental Gas Pipe Line Company and Florida Gas Transmission Company;

• modification of the existing surge protection sea wall to enclose the expanded terminal;

• additional utility and support facilities; and

• a new dock designed to receive barges transporting large equipment during construction.

GLLC plans to initiate construction of the Project in June 2016 and complete construction and initiate service of the first LNG liquefaction train in the third quarter of 2019. GLLC plans to have the second train constructed and operational by the second quarter of 2020.

Land Requirements for Construction

The Gulf LNG Liquefaction Project would be constructed on and adjacent to (north of) the existing Gulf LNG Terminal. The Project would require about 193 acres for construction, including some land within the existing Gulf LNG Terminal, and the use of previously established offsite storage areas. After construction, GLLC would maintain about 80 acres for operation of the Project, in addition to the land currently occupied by the existing terminal. The remaining 75 acres of construction wareyards would be offsite of the existing terminal and expansion area footprint due to space limitations. These off-site workspace areas would be restored and allowed to revert to their former uses.

The EIS Process

The National Environmental Policy Act (NEPA) requires the Commission to take into account the environmental impacts that could result from an action whenever it considers the issuance of a Certificate of Public Convenience and Necessity under section 7(c) of the Natural Gas Act (NGA) for authorization to construct, install, and operate LNG facilities and under Section 3(a) of the NGA to import or export natural gas including LNG. NEPA also requires us ² to discover and address concerns the public may have about proposals. This process is referred to as “scoping”. The main goal of the scoping process is to focus our analysis in the EIS on the important environmental issues. By this notice, the Commission requests public comments on the scope of issues to be addressed in the EIS. We will consider all filed comments during the preparation of the EIS.

² “We,” “us,” and “our” refer to the environmental staff of the Commission's Office of Energy Projects.

In the EIS, we will discuss impacts that could occur as a result of the construction and operation of the planned Gulf LNG Liquefaction Project under the following general headings:

• Geology and soils;

• water resources;

• wetlands and vegetation;

• fish and wildlife;

• threatened and endangered species;

• land use, recreation, and visual resources;

• air quality and noise;

• cultural resources;

• socioeconomics;

• reliability and safety;

• engineering and design material; and

• cumulative environmental impacts.

We will also evaluate possible alternatives to the planned Project or portions of the Project in the EIS, and make recommendations on how to lessen or avoid impacts on affected resources.

Although no formal application has been filed by GLLC, we have initiated our NEPA review under the Commission's pre-filing process. The purpose of the pre-filing process is to encourage the early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 6.

With this notice, we are asking agencies with jurisdiction by law and/or special expertise with respect to the environmental issues related to this Project to formally cooperate with us in the preparation of the EIS.³ Agencies that would like to request cooperating agency status should follow the instructions for filing comments provided under the Public Participation section of this notice. Currently, the U.S. Department of Energy, the U.S. Department of Transportation, and the U.S. Coast Guard have agreed to participate as cooperating agencies in the preparation of the EIS to satisfy their NEPA responsibilities related to this Project.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the Office of the Mississippi Department of Archives and History, which has been given the role of State Historic Preservation Office (SHPO), and to solicit its views and those of other government agencies, interested Indian tribes, and the public on the Project's potential effects on historic properties.⁴ We will define the Project-specific Area of Potential Effects in consultation with the SHPO as the Project develops. On natural gas facility projects, the Area of Potential Effects at a minimum encompasses all areas subject to ground disturbance (examples include contractor/pipe storage yards and access roads). Our EIS for the Project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register for Historic Places.

Currently Identified Environmental Issues

We have already identified many issues that we think deserve attention based on a preliminary review of the Project site and facilities and information provided by GLLC. The following preliminary list of key issues is not all inclusive and may be changed based on your comments and our analysis:

• Evaluation of temporary and permanent impacts on wetlands and the development of appropriate mitigation;

• potential impacts to fish and wildlife habitat, including potential impacts to federally and state-listed threatened and endangered species;

• potential visual effects of the aboveground facilities on surrounding areas;

• potential impacts and potential benefits of construction workforce on local housing, infrastructure, public services, transportation, and economy;

• impacts on air quality and noise associated with construction and operation of the Project; and

• public safety and hazards associated with the transport of natural gas and LNG.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before September 1, 2014. This is not your only public input opportunity; please refer to the Environmental Review Process flow chart in Appendix 2.

For your convenience, there are three methods you can use to submit your comments to the Commission. In all instances, please reference the Project Docket No. (PF13-4-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments with a mailing address on the Project. We will update the environmental mailing list as the analysis proceeds to ensure that we send the information related to this environmental review to all individuals, organizations, and government entities interested in and/or potentially affected by the planned Project.

Copies of the completed draft EIS will be sent to the environmental mailing list for public review and comment. If you would prefer to receive a paper copy of the document instead of the CD version or would like to remove your name from the mailing list, please return the attached Information Request (Appendix 3).

Becoming an Intervenor

Once GLLC files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the planned Project.

Additional Information

Additional information about the Project is available from the Commission's Office of External Affairs, at (866) 208-FERC, or on the FERC Web site (www.ferc.gov) using the eLibrary link. Click on the eLibrary link, click on “General Search” and enter the docket number, excluding the last three digits in the docket no. field (i.e., enter PF13-4). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Public meetings or site visits will be posted on the Commission's calendar located at www.ferc.gov/EventCalendar/EventsList.aspx along with other related information.

In addition, GLLC has also created a Project-specific Internet Web site at http://GulfLNG.kindermorgan.com. This Web site contains a description of the Project, information for landowners, Project updates, and other types of useful information. This Web site will be updated as the review of the Project proceeds. You can also request additional information or provide comments directly to GLLC at 1-800-622-4481 or email glenn_sheffield@kindermorgan.com.

Kimberly D. Bose,
Secretary.

[FR Doc. 2014-18897 Filed 8-8-14; 8:45 am]

BILLING CODE 6717-01-P